DEPARTMENT OF AGRICULTURE

Agricultural Marketing Service

[Docket No. CN-00-007]

Notice of Request for Extension and Revision of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request an extension for and revision to a currently approved information collection for Cotton Classing, Testing, and Standards.

DATES: Comments on this notice must be received by November 27, 2000, to be assured of consideration.

ADDITIONAL INFORMATION OR COMMENTS: Comments may be mailed to USDA, AMS, Cotton Programs, 1400 Independence Avenue, SW., Stop 0224, Room 2641-S, Washington DC 20250-0224. All comments received will be available for public inspection at this address during the hours 8 a.m. to 4 p.m. Monday through Friday.

SUPPLEMENTARY INFORMATION: Title: Cotton Classing, Testing, and Standards

OMB Number: 0581-0008.

Expiration Date of Approval: July 31, 2001.

Type of Request: Extension and revision of a currently approved information collection.

Abstract: Information solicited is used by the USDA to administer and supervise activities associated with the classification or grading of cotton, cotton linters, and cottonseed based on official USDA Standards. The information requires personal data, such as name, type of business, address, and description of classification services requested. These programs are conducted under the United States Cotton Standards Act (7 U.S.C. 51b), the Cotton Statistics and Estimates Act of 1927 (U.S.C. 473c), and the Agricultural Marketing Act of 1946 (7 U.S.C. 1622h).

The information collection requirements in this request are essential to carry out the intent of the Acts and to provide the cotton industry the type of information they need to make sound business decisions. The information collected is the minimum required. Information is requested from growers, cooperatives, merchants, manufacturers, and other government agencies.

The information collected is used only by authorized employees of the USDA, AMS. The Cotton Industry is the primary user of the compiled information and AMS and other government agencies are secondary users.

Estimate of Burden: Public reporting burden for this collection of information is estimated to average 0.07 (119/1697) hours per response.

Respondents: Cotton merchants, warehouses, and gins.

Estimated Number of Respondents: 797.

Estimated Number of Responses per Respondent: 2.13 (1697/797).

Estimated Total Annual Burden on Respondents: 119 Hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Darryl W. Earnest, Assistant Associate Deputy Administrator, Cotton Programs, AMS, USDA 1400 Independence Avenue, SW, Stop 0224, Room 2641-S, Washington, DC 20250. All comments received will be available for public inspection during regular business hours at the same address. All responses to this notice will be summarized and included in the request for OMB approval. All comments will become a matter of public record.

Dated: September 21, 2000.
Norma McDill,
Acting Deputy Administrator, Cotton Programs.

[FR Doc. 00-24777 Filed 9-26-00; 8:45 am]

BILLING CODE 3410-02-P